DEPARTMENT OF ENERGY

High Energy Physics Advisory Panel

AGENCY: Office of Science, Department of Energy.

ACTION: Notice of renewal.

SUMMARY: Pursuant to the Federal Advisory Committee Act, App. 2, and Code of Federal Regulations, and following consultation with the Committee Management Secretariat, General Services Administration, notice is hereby given that the High Energy Physics Advisory Panel (HEPAP) has been renewed for a two-year period.

The Committee will provide advice and recommendations to the Director, Office of Science (DOE), and the Assistant Director, Directorate for Mathematical and Physical Sciences (NSF), on scientific priorities within the field of basic high energy physics research.

Additionally, the Secretary of Energy has determined that renewal of the HEPAP is essential to conduct business of the Department of Energy and the National Science Foundation and is in the public interest in connection with the performance duties imposed by law upon the Department of Energy. The Committee will continue to operate in accordance with the provisions of the Federal Advisory Committee Act, the Department of Energy Organization Act (Pub. L. 95-91), and the rules and regulations in implementation of these acts.

FOR FURTHER INFORMATION CONTACT: Dr. John Kogut at (301) 903-1298, or email: john.kogut@science.doe.gov.

Signed in Washington, DC, on August 9, 2019.
Rachael J. Beitler,
Acting Committee Management Officer.

[FR Doc. 2019-17636 Filed 8-15-19; 8:45 am]

BILLING CODE 6450-01-P